FEDERAL MINE SAFETY AND HEALTH REVIEW COMMISSION

Sunshine Act Meeting Notice

TIME AND DATE: 10:00 a.m., Wednesday, November 29, 2017.

PLACE: The Richard V. Backley Hearing Room, Room 511N, 1331 Pennsylvania Avenue NW., Washington, DC 20004 (enter from F Street entrance).

STATUS: Open.

MATTERS TO BE CONSIDERED: The Commission will hear oral argument in the matter Secretary of Labor v. The American Coal Company, Docket No. LAKE 2011-701 (Issues include whether on remand the Judge erred by not adequately explaining the basis for the assessed penalty amounts.)

Any person attending this oral argument who requires special accessibility features and/or auxiliary aids, such as sign language interpreters, must inform the Commission in advance of those needs. Subject to 29 CFR 2706.150(a)(3) and § 2706.160(d).

CONTACT PERSON FOR MORE INFO: Emogene Johnson (202) 434-9935/(202) 708-9300 for TDD Relay/1-800-877-8339 for toll free.

PHONE NUMBER FOR LISTENING TO ARGUMENT: 1-(866) 867-4769, Passcode: 678-100.

Dated: November 6, 2017.
Sarah L. Stewart,
Deputy General Counsel.

[FR Doc. 2017-24405 Filed 11-6-17; 4:15 pm]

BILLING CODE 6735-01-P